DEPARTMENT OF THE TREASURY

Office of Foreign Assets Control

Sanctions Actions Pursuant to Executive Order 13712

AGENCY: Office of Foreign Assets Control, Treasury.

ACTION: Notice.

SUMMARY: The Treasury Department's Office of Foreign Assets Control (OFAC) is publishing the names of three individuals whose property and interests in property are blocked pursuant to Executive Order (E.O.) 13712, and whose names have been added to OFAC's list of Specially Designated Nationals and Blocked Persons (SDN List).

DATES: OFAC's actions described in this notice were effective June 2, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202-622-0077.

Notice of OFAC Actions

On June 2, 2016 OFAC blocked the property and interests in property of the following three individuals pursuant to E.O. 13712, “Blocking Property of Certain Persons Contributing to the Situation in Burundi”:

1. NGENDABANKA, Marius, Kinanira IV, Kinindo, Bujumbura, Burundi; DOB 25 Aug 1974; nationality Burundi; Gender Male; Commander, First Military Region; Deputy Chief of Land Forces; Burundian National Defense Forces Deputy Commander of Operations (individual) [BURUNDI].

2. SIBOMANA, Ignace; DOB 01 Jan 1972; POB Buhina, Kanyosha, Bujumbura, Burundi; nationality Burundi; Gender Male; Burundian Army Colonel, Chief of Military Intelligence (individual) [BURUNDI].

3. NSHIMIRIMANA, Edouard; DOB 1970; POB Bugeni Vyanda, Burundi; nationality Burundi; Passport 089567 (Burundi) issued 10 Feb 2006 expires 10 Feb 2011; Former Lieutenant Colonel (individual) [BURUNDI].

Dated: June 2, 2016.
John E. Smith,
Acting Director, Office of Foreign Assets Control.

[FR Doc. 2016-13459 Filed 6-7-16; 8:45 am]

BILLING CODE 4810-AL-P